POSTAL SERVICE

39 CFR Part 20

Priority Mail Global Guaranteed

AGENCY: Postal Service.

ACTION: Amendment to interim rule.

SUMMARY: The Postal Service is amending the interim rule on Priority Mail Global Guaranteed service to extend service to most countries in the world and to create rate groups for these countries to reflect the cost associated with providing this service.

EFFECTIVE DATE: May 28, 2000. Comments on the amendment to the interim rule must be received on or before June 26, 2000.

ADDRESSES: Written comments should be mailed or delivered to the Manager, Business Results, International Business, U.S. Postal Service, 475 L'Enfant Plaza SW, Room 370-IBU, Washington, DC 20260-6500. Copies of all written comments will be available for public inspection between 9 a.m. and 4 p.m., Monday through Friday, in International Business, 10th Floor, 901 D Street SW, Washington, DC.

FOR FURTHER INFORMATION CONTACT: Walter J. Grandjean, (202) 314-7256.

SUPPLEMENTARY INFORMATION: On April 19, 1999, the Postal Service announced in the Federal Register (62 FR 19039-19042) the introduction of Priority Mail Global Guaranteed on an interim basis.

The U.S. Postal Service, through an alliance with DHL Worldwide Express Inc., is offering an enhanced expedited service, Priority Mail Global Guaranteed, from selected locations in the United States to selected countries. This service offers day-certain delivery with postage refund guarantee and document reconstruction coverage of $100 for allowable contents.

On November 4, 1999, the Postal Service announced in the Federal Register (64 FR 60106-60109) an amendment to the interim rule to add more U.S. acceptance locations and to extend the service to more destination countries. Public comments were requested by December 6, 1999, and by that date two comments were received. Both comments related to the way in which the Postal Service categorized the U.S. acceptance offices and how the acceptance offices were selected.

The acceptance offices were selected on their ability to meet the stringent service standards for this service based on local considerations such as timely transportation, mail processing capabilities, and access to national transportation.

The presentation of acceptance offices has been changed. ZIP Code ranges can overlap metropolitan areas and state boundaries. Accordingly, the chart of acceptance offices has been changed to delete the reference to metropolitan areas and only state names are used as a guide to determining where service is available. The use of state designations is not meant to limit service within the specified ZIP Code ranges, since they are intended only to serve as a guide to the areas that offer Priority Mail Global Guaranteed service.

The Postal Service is now extending service to more countries and redesigning the rates to reflect the cost of providing service to these additional countries. Service will be available to all country destinations listed in the International Mail Manual except Afghanistan, Ascension, China, Iraq, Japan, Democratic People's Republic of Korea (North), Libya, Pitcairn Island, Saint Helena, Sudan, and Tristan de Cunha.

Although each network country has been placed into one of eight rate groups, rate groups 1 and 2, 3 and 7, and 4 and 6, respectively, contain duplicate rates at the present time. The applicable rates and the destination countries that are associated with each rate group are as follows:

Weight not over (lbs.) | Rate Groups 1 and 2 (Canada, Mexico, and St. Pierre & Miquelon) | Rate Groups 3 and 7 | Rate Groups 4 and 6 | Rate Group 5 | Rate Group 8
0.5 | $20.00 | $24.00 | $29.00 | $40.00 | $60.00
1 | 31.00 | 34.00 | 41.00 | 51.00 | 72.00
2 | 31.00 | 34.00 | 41.00 | 65.00 | 87.00
3 | 42.00 | 53.00 | 60.00 | 80.00 | 102.00
4 | 44.00 | 60.00 | 67.00 | 94.00 | 115.00
5 | 47.00 | 66.00 | 74.00 | 107.00 | 129.00
6 | 50.00 | 71.00 | 81.00 | 119.00 | 141.00
7 | 53.00 | 76.00 | 88.00 | 131.00 | 153.00
8 | 56.00 | 81.00 | 95.00 | 142.00 | 165.00
9 | 59.00 | 85.00 | 102.00 | 154.00 | 176.00
10 | 62.00 | 89.00 | 109.00 | 166.00 | 188.00
11 | 64.00 | 93.00 | 114.00 | 177.00 | 200.00
12 | 66.00 | 98.00 | 120.00 | 187.00 | 212.00
13 | 69.00 | 102.00 | 125.00 | 197.00 | 224.00
14 | 72.00 | 106.00 | 131.00 | 207.00 | 235.00
15 | 74.00 | 110.00 | 136.00 | 215.00 | 246.00
16 | 77.00 | 114.00 | 141.00 | 223.00 | 258.00
17 | 79.00 | 118.00 | 147.00 | 230.00 | 269.00
18 | 82.00 | 121.00 | 152.00 | 238.00 | 280.00
19 | 84.00 | 125.00 | 158.00 | 245.00 | 292.00
20 | 87.00 | 128.00 | 163.00 | 253.00 | 303.00
21 | 89.00 | 132.00 | 168.00 | 260.00 | 313.00
22 | 91.00 | 136.00 | 173.00 | 268.00 | 322.00
23 | 94.00 | 139.00 | 178.00 | 275.00 | 332.00
24 | 96.00 | 143.00 | 183.00 | 283.00 | 341.00
25 | 98.00 | 146.00 | 188.00 | 290.00 | 349.00
26 | 100.00 | 149.00 | 193.00 | 298.00 | 358.00
27 | 103.00 | 153.00 | 198.00 | 305.00 | 366.00
28 | 105.00 | 156.00 | 203.00 | 313.00 | 375.00
29 | 107.00 | 160.00 | 208.00 | 320.00 | 384.00
30 | 110.00 | 163.00 | 213.00 | 328.00 | 392.00
31 | 112.00 | 167.00 | 218.00 | 335.00 | 401.00
32 | 114.00 | 170.00 | 223.00 | 343.00 | 410.00
33 | 116.00 | 174.00 | 228.00 | 350.00 | 418.00
34 | 119.00 | 177.00 | 233.00 | 358.00 | 427.00
35 | 121.00 | 181.00 | 238.00 | 365.00 | 435.00
36 | 123.00 | 184.00 | 243.00 | 373.00 | 444.00
37 | 125.00 | 188.00 | 248.00 | 380.00 | 453.00
38 | 128.00 | 191.00 | 253.00 | 388.00 | 461.00
39 | 130.00 | 195.00 | 258.00 | 395.00 | 470.00
40 | 132.00 | 198.00 | 263.00 | 403.00 | 479.00
41 | 133.00 | 202.00 | 268.00 | 410.00 | 487.00
42 | 135.00 | 205.00 | 273.00 | 418.00 | 496.00
43 | 137.00 | 209.00 | 278.00 | 425.00 | 505.00
44 | 138.00 | 212.00 | 283.00 | 433.00 | 514.00
45 | 140.00 | 216.00 | 288.00 | 440.00 | 522.00
46 | 142.00 | 219.00 | 293.00 | 448.00 | 531.00
47 | 143.00 | 223.00 | 298.00 | 455.00 | 540.00
48 | 145.00 | 226.00 | 303.00 | 463.00 | 548.00
49 | 147.00 | 230.00 | 308.00 | 470.00 | 557.00
50 | 148.00 | 233.00 | 313.00 | 478.00 | 566.00
51 | 148.00 | 233.00 | 313.00 | 478.00 | 566.00
52 | 152.00 | 240.00 | 323.00 | 492.00 | 583.00
53 | 152.00 | 240.00 | 323.00 | 492.00 | 583.00
54 | 154.00 | 247.00 | 333.00 | 505.00 | 601.00
55 | 154.00 | 247.00 | 333.00 | 505.00 | 601.00
56 | 156.00 | 254.00 | 343.00 | 516.00 | 617.00
57 | 156.00 | 254.00 | 343.00 | 516.00 | 617.00
58 | 159.00 | 261.00 | 353.00 | 527.00 | 633.00
59 | 159.00 | 261.00 | 353.00 | 527.00 | 633.00
60 | 161.00 | 268.00 | 363.00 | 538.00 | 649.00
61 | 161.00 | 268.00 | 363.00 | 538.00 | 649.00
62 | 164.00 | 275.00 | 373.00 | 549.00 | 666.00
63 | 164.00 | 275.00 | 373.00 | 549.00 | 666.00
64 | 166.00 | 282.00 | 383.00 | 560.00 | 684.00
65 | 166.00 | 282.00 | 383.00 | 560.00 | 684.00
66 | 168.00 | 289.00 | 393.00 | 571.00 | 701.00
67 | 168.00 | 289.00 | 393.00 | 571.00 | 701.00
68 | 171.00 | 296.00 | 403.00 | 583.00 | 718.00
69 | 171.00 | 296.00 | 403.00 | 583.00 | 718.00
70 | 173.00 | 303.00 | 413.00 | 594.00 | 735.00

Country | Rate group
Afghanistan | (¹)
Albania | 8
Algeria | 8
Andorra | 8
Angola | 8
Anguilla | 7
Antigua & Barbuda | 7
Argentina | 5
Armenia | 8
Aruba | 7
Ascension | (¹)
Australia | 4
Austria | 3
Azerbaijan | 8
Bahamas | 7
Bahrain | 6
Bangladesh | 8
Barbados | 7
Belarus | 8
Belgium | 3
Belize | 5
Benin | 8
Bermuda | 7
Bhutan | 8
Bolivia | 5
Bosnia-Herzegovina | 8
Botswana | 8
Brazil | 5
British Virgin Islands | 7
Brunei Darussalam | 8
Bulgaria | 8
Burkina Faso | 8
Burma (Myanmar) | 8
Burundi | 8
Cambodia | 8
Cameroon | 8
Canada | 1
Cape Verde | 8
Cayman Islands | 7
Central African Republic | 8
Chad | 8
Chile | 5
China | (¹)
Colombia | 5
Comoros | 8
Congo, Democratic Republic of the | 8
Congo, Republic of the | 8
Costa Rica | 5
Cote d'Ivoire (Ivory Coast) | 8
Croatia | 8
Cuba | 8
Cyprus | 6
Czech Republic | 8
Denmark | 3
Djibouti | 8
Dominica | 7
Dominican Republic | 7
Ecuador | 5
Egypt | 6
El Salvador | 5
Equatorial Guinea | 8
Eritrea | 8
Estonia | 8
Ethiopia | 8
Falkland Islands | 5
Faroe Islands | 8
Fiji | 8
Finland | 3
France | 3
French Guiana | 5
French Polynesia | 8
Gabon | 8
Gambia | 8
Georgia, Republic of | 8
Germany | 3
Ghana | 8
Gibraltar | 3
Great Britain & Northern Ireland | 3
Greece | 3
Greenland | 8
Grenada | 7
Guadeloupe | 7
Guatemala | 5
Guinea | 8
Guinea-Bissau | 8
Guyana | 5
Haiti | 7
Honduras | 5
Hong Kong | 3
Hungary | 8
Iceland | 8
India | 6
Indonesia | 4
Iran | 6
Iraq | (¹)
Ireland (Eire) | 3
Israel | 6
Italy | 3
Jamaica | 7
Japan | (¹)
Jordan | 6
Kazakhstan | 8
Kenya | 8
Kiribati | 8
Korea, Democratic People's Republic of (North) | (¹)
Korea, Republic of (South) | 4
Kuwait | 6
Kyrgyzstan | 8
Laos | 8
Latvia | 8
Lebanon | 6
Lesotho | 8
Liberia | 8
Libya | (¹)
Liechtenstein | 3
Lithuania | 8
Luxembourg | 3
Macao | 3
Macedonia, Republic of | 8
Madagascar | 8
Malawi | 8
Malaysia | 4
Maldives | 8
Mali | 8
Malta | 3
Martinique | 7
Mauritania | 8
Mauritius | 8
Mexico | 2
Moldova | 8
Mongolia | 8
Montserrat | 7
Morocco | 8
Mozambique | 8
Namibia | 8
Nauru | 8
Nepal | 8
Netherlands | 3
Netherlands Antilles | 7
New Caledonia | 8
New Zealand | 4
Nicaragua | 5
Niger | 8
Nigeria | 8
Norway | 3
Oman | 6
Pakistan | 6
Panama | 5
Papua New Guinea | 8
Paraguay | 5
Peru | 5
Philippines | 4
Pitcairn Island | (¹)
Poland | 8
Portugal | 3
Qatar | 6
Reunion | 8
Romania | 8
Russia | 8
Rwanda | 8
St. Christopher (St. Kitts) & Nevis | 7
Saint Helena | (¹)
Saint Lucia | 7
Saint Pierre & Miquelon | 1
Saint Vincent & Grenadines | 7
San Marino | 3
Sao Tome & Principe | 8
Saudi Arabia | 6
Senegal | 8
Serbia-Montenegro (Yugoslavia) | 8
Seychelles | 8
Sierra Leone | 8
Singapore | 3
Slovak Republic (Slovakia) | 8
Slovenia | 8
Solomon Islands | 8
Somalia | 8
South Africa | 8
Spain | 3
Sri Lanka | 8
Sudan | (¹)
Suriname | 5
Swaziland | 8
Sweden | 3
Switzerland | 3
Syrian Arab Republic (Syria) | 6
Taiwan | 3
Tajikistan | 8
Tanzania | 8
Thailand | 4
Togo | 8
Tonga | 8
Trinidad & Tobago | 7
Tristan da Cunha | (¹)
Tunisia | 8
Turkey | 6
Turkmenistan | 8
Turks & Caicos Islands | 7
Tuvalu | 8
Uganda | 8
Ukraine | 8
United Arab Emirates | 6
Uruguay | 5
Uzbekistan | 8
Vanuatu | 8
Vatican City | 3
Venezuela | 5
Vietnam | 4
Wallis & Futuna Islands | 4
Western Samoa | 4
Yemen | 6
Zambia | 8
Zimbabwe | 8
¹ No Service.

Although the Postal Service is exempted by 39 U.S.C. 410(a) from the advance notice requirements of the Administrative Procedure Act regarding proposed rulemaking (5 U.S.C. 553), the Postal Service invites public comment on the amendment to the interim rule at the above address.

The Postal Service is amending International Mail Manual chapter 2, Conditions for Mailing, which is incorporated by reference in the Code of Federal Regulations. See 39 CFR 20.1.

A transmittal letter changing the relevant pages in the International Mail Manual will be published and automatically transmitted to all subscribers. Notice of issuance of the transmittal will be published in the Federal Register as provided by 39 CFR 20.3.

List of Subjects in 39 CFR Part 20

Foreign relations, International postal service.

PART 20—[AMENDED]

1. The authority citation for 39 CFR Part 20 continues to read as follows:

Authority: 5 U.S.C. 552(a); 39 U.S.C. 401, 404, 407, 408.

2. Chapter 2 of the International Mail Manual (IMM) is amended as follows:

2 CONDITIONS FOR MAILING

210 Express Mail International Service

* * * * *

215 Priority Mail Global Guaranteed

* * * * *

215.3 Service Areas

215.31 U.S. Origins

Priority Mail Global Guaranteed (PMGG) items must be entered at post offices that are located in the following ZIP Code areas:

State | ZIP code areas
Arizona | 850, 852-853
California | 900, 902-908, 910-918, 926-928, 937, 939-941, 943-944, 946, 949-951, 954
Colorado | 802
Connecticut | 060-069
Delaware | 197-199
District of Columbia | 200, 202-203, 205
Florida | 320, 322, 327-338, 342, 346-347
Georgia | 300-303, 305-306, 311
Illinois | 600-608, 610-611, 620, 622, 629
Indiana | 460-470, 472-475, 478-479
Kentucky | 410, 452
Maine | 039-041
Maryland | 206-212, 214, 217, 219
Massachusetts | 010-027
Michigan | 481-482, 486-491, 493-497
Minnesota | 550-551, 553-554, 558-559
Missouri | 630-631, 633
New Hampshire | 030-034, 038
New Jersey | 070-085, 087-089
New York | 100-101, 103-105, 107, 109-119, 124-127
North Carolina | 270-278, 280-282, 286
Ohio | 430-438, 440-458
Pennsylvania | 189-191, 193-196
Rhode Island | 028-029
Tennessee | 372
Texas | 750-752, 760-764, 769-770, 772-778, 780-782, 784, 791, 794
Virginia | 201, 220-225, 230-232, 238-239
Vermont | 054, 056
Washington | 980-982
Wisconsin | 530-532, 534

215.32 Foreign Destinations

Priority Mail Global Guaranteed (PMGG) service is available to all locations that are referenced in the Individual Country Listings except for the following:

Afghanistan

Ascension

China

Iraq

Japan

Korea, Democratic People's Republic of (North)

Libya

Pitcairn Island

Saint Helena

Sudan

Tristan de Cunha

* * * * *

215.6 Postage

215.61 Rate Groups ¹
Weight not over (lb.) ² | Rate groups 1 and 2 (Canada, Mexico, and St. Pierre & Miquelon) | Rate groups 3 and 7 | Rate groups 4 and 6 | Rate group 5 | Rate group 8
0.5 | $20.00 | $24.00 | $29.00 | $40.00 | $60.00
1 | 31.00 | 34.00 | 41.00 | 51.00 | 72.00
2 | 31.00 | 34.00 | 41.00 | 65.00 | 87.00
3 | 42.00 | 53.00 | 60.00 | 80.00 | 102.00
4 | 44.00 | 60.00 | 67.00 | 94.00 | 115.00
5 | 47.00 | 66.00 | 74.00 | 107.00 | 129.00
6 | 50.00 | 71.00 | 81.00 | 119.00 | 141.00
7 | 53.00 | 76.00 | 88.00 | 131.00 | 153.00
8 | 56.00 | 81.00 | 95.00 | 142.00 | 165.00
9 | 59.00 | 85.00 | 102.00 | 154.00 | 176.00
10 | 62.00 | 89.00 | 109.00 | 166.00 | 188.00
11 | 64.00 | 93.00 | 114.00 | 177.00 | 200.00
12 | 66.00 | 98.00 | 120.00 | 187.00 | 212.00
13 | 69.00 | 102.00 | 125.00 | 197.00 | 224.00
14 | 72.00 | 106.00 | 131.00 | 207.00 | 235.00
15 | 74.00 | 110.00 | 136.00 | 215.00 | 246.00
16 | 77.00 | 114.00 | 141.00 | 223.00 | 258.00
17 | 79.00 | 118.00 | 147.00 | 230.00 | 269.00
18 | 82.00 | 121.00 | 152.00 | 238.00 | 280.00
19 | 84.00 | 125.00 | 158.00 | 245.00 | 292.00
20 | 87.00 | 128.00 | 163.00 | 253.00 | 303.00
21 | 89.00 | 132.00 | 168.00 | 260.00 | 313.00
22 | 91.00 | 136.00 | 173.00 | 268.00 | 322.00
23 | 94.00 | 139.00 | 178.00 | 275.00 | 332.00
24 | 96.00 | 143.00 | 183.00 | 283.00 | 341.00
25 | 98.00 | 146.00 | 188.00 | 290.00 | 349.00
26 | 100.00 | 149.00 | 193.00 | 298.00 | 358.00
27 | 103.00 | 153.00 | 198.00 | 305.00 | 366.00
28 | 105.00 | 156.00 | 203.00 | 313.00 | 375.00
29 | 107.00 | 160.00 | 208.00 | 320.00 | 384.00
30 | 110.00 | 163.00 | 213.00 | 328.00 | 392.00
31 | 112.00 | 167.00 | 218.00 | 335.00 | 401.00
32 | 114.00 | 170.00 | 223.00 | 343.00 | 410.00
33 | 116.00 | 174.00 | 228.00 | 350.00 | 418.00
34 | 119.00 | 177.00 | 233.00 | 358.00 | 427.00
35 | 121.00 | 181.00 | 238.00 | 365.00 | 435.00
36 | 123.00 | 184.00 | 243.00 | 373.00 | 444.00
37 | 125.00 | 188.00 | 248.00 | 380.00 | 453.00
38 | 128.00 | 191.00 | 253.00 | 388.00 | 461.00
39 | 130.00 | 195.00 | 258.00 | 395.00 | 470.00
40 | 132.00 | 198.00 | 263.00 | 403.00 | 479.00
41 | 133.00 | 202.00 | 268.00 | 410.00 | 487.00
42 | 135.00 | 205.00 | 273.00 | 418.00 | 496.00
43 | 137.00 | 209.00 | 278.00 | 425.00 | 505.00
44 | 138.00 | 212.00 | 283.00 | 433.00 | 514.00
45 | 140.00 | 216.00 | 288.00 | 440.00 | 522.00
46 | 142.00 | 219.00 | 293.00 | 448.00 | 531.00
47 | 143.00 | 223.00 | 298.00 | 455.00 | 540.00
48 | 145.00 | 226.00 | 303.00 | 463.00 | 548.00
49 | 147.00 | 230.00 | 308.00 | 470.00 | 557.00
50 | 148.00 | 233.00 | 313.00 | 478.00 | 566.00
51 | 148.00 | 233.00 | 313.00 | 478.00 | 566.00
52 | 152.00 | 240.00 | 323.00 | 492.00 | 583.00
53 | 152.00 | 240.00 | 323.00 | 492.00 | 583.00
54 | 154.00 | 247.00 | 333.00 | 505.00 | 601.00
55 | 154.00 | 247.00 | 333.00 | 505.00 | 601.00
56 | 156.00 | 254.00 | 343.00 | 516.00 | 617.00
57 | 156.00 | 254.00 | 343.00 | 516.00 | 617.00
58 | 159.00 | 261.00 | 353.00 | 527.00 | 633.00
59 | 159.00 | 261.00 | 353.00 | 527.00 | 633.00
60 | 161.00 | 268.00 | 363.00 | 538.00 | 649.00
61 | 161.00 | 268.00 | 363.00 | 538.00 | 649.00
62 | 164.00 | 275.00 | 373.00 | 549.00 | 666.00
63 | 164.00 | 275.00 | 373.00 | 549.00 | 666.00
64 | 166.00 | 282.00 | 383.00 | 560.00 | 684.00
65 | 166.00 | 282.00 | 383.00 | 560.00 | 684.00
66 | 168.00 | 289.00 | 393.00 | 571.00 | 701.00
67 | 168.00 | 289.00 | 393.00 | 571.00 | 701.00
68 | 171.00 | 296.00 | 403.00 | 583.00 | 718.00
69 | 171.00 | 296.00 | 403.00 | 583.00 | 718.00
70 | 173.00 | 303.00 | 413.00 | 594.00 | 735.00
¹ See the Individual Country Listings for the postage rates that are applicable to each PMGG destination country.
² Maximum weight limit is 70 pounds to all destination countries.

* * * * *

[The Individual Country Listing pages in the International Mail Manual will be revised to reflect the availability of Priority Mail Global Guaranteed service and the applicable postage rates.]

Stanley F. Mires,
Chief Counsel, Legislative.

[FR Doc. 00-12971 Filed 5-25-00; 8:45 am]

BILLING CODE 7710-12-P